!!!Michele

DEPARTMENT OF TRANSPORTATION
Federal Highway Administration
Environmental Impact Statement: Multiple South and East Texas Counties, State of Texas

Correction
In notice document 04-866 beginning on page 2382 in the issue of Thursday, January 15, 2004 make the following correction:
On page. 2382, in the third column, under the SUMMARY: heading, in the sixth line, after “69) from” add “near Shreveport, Louisiana and Texarkana, Texas to the Texas-Mexico international border”.

[FR Doc. C4-866 Filed 1-29-04; 8:45 am]
BILLING CODE 1505-01-D
Amelia

DEPARTMENT OF THE TREASURY
Internal Revenue Service
26 CFR Part 1
[TD 9108]
RIN 1545-BC76
Confidential Transactions

Correction
In rule document 03-31900 beginning on page 75128 in the issue of Tuesday, December 30, 2003, make the following correction:

§ 1.6011-4
[Corrected]
On page 75130, in § 1.6011-4, in the second column, after paragraph (b)(3)(v), add
“*  *  *  *  *”
to the end of the paragraph.

[FR Doc. C3-31900 Filed 1-29-04; 8:45 am]
BILLING CODE 1505-01-D